DEPARTMENT OF THE INTERIOR

Fish and Wildlife Service

50 CFR Part 32

RIN 1018-AI63

2003-2004 Refuge-Specific Hunting and Sport Fishing Regulations

AGENCY: Fish and Wildlife Service, Interior.

ACTION: Proposed rule.

SUMMARY: The Fish and Wildlife Service proposes to add seven additional refuges to the list of areas open for hunting and/or sport fishing activities and increase the activities available at three other refuges for 2003-2004.

DATES: We must receive your comments on or before September 15, 2003.

ADDRESSES: Submit written comments to Chief, Division of Conservation Planning and Policy, National Wildlife Refuge System, U.S. Fish and Wildlife Service, 4401 N. Fairfax Drive, Room 670, Arlington, VA 22203. See SUPPLEMENTARY INFORMATION for information on electronic submission. For information on specific refuges' public use programs and the conditions that apply to them or for copies of compatibility determinations for any refuge(s), contact individual programs at the addresses/phone numbers given in “Available Information for Specific Refuges” under SUPPLEMENTARY INFORMATION.

FOR FURTHER INFORMATION CONTACT: Leslie A. Marler, (703) 358-2397; Fax (703) 358-2248.

SUPPLEMENTARY INFORMATION: The National Wildlife Refuge System Administration Act of 1966 (Administration Act) closes national wildlife refuges to all uses until opened. The Secretary of the Interior (Secretary) may open refuge areas to any use, including hunting and/or fishing, upon a determination that such uses are compatible with the purposes of the refuge and National Wildlife Refuge System mission. The action also must be in accordance with provisions of all laws applicable to the areas, developed in coordination with the appropriate State fish and wildlife agency(ies), and consistent with the principles of sound fish and wildlife management and administration. These requirements ensure that we maintain the biological integrity, diversity, and environmental health of the National Wildlife Refuge System (System or we) for the benefit of present and future generations of Americans.

We annually review refuge hunting and fishing programs to determine whether to include additional refuges.

Provisions governing hunting and fishing on national wildlife refuges are in Title 50 of the Code of Federal Regulations in part 32 (50 CFR part 32). We regulate hunting and fishing on refuges to:

• Ensure compatibility with refuge purpose(s);

• Properly manage the fish and wildlife resource(s);

• Protect other refuge values;

• Ensure refuge visitor safety; and

• Provide opportunities for quality recreational and educational experiences.

On many refuges where we decide to allow hunting and fishing, our general policy of adopting regulations identical to State hunting and fishing regulations is adequate in meeting these objectives. On other refuges, we must supplement State regulations with more-restrictive Federal regulations to ensure that we meet our management responsibilities, as outlined in the “Statutory Authority” section. We issue refuge-specific hunting and sport fishing regulations when we open wildlife refuges to either migratory game bird hunting, upland game hunting, big game hunting, or sport fishing. These regulations list the wildlife species that you may hunt or those species subject to sport fishing, seasons, bag limits, methods of hunting or fishing, descriptions of areas open to hunting or fishing, and other provisions as appropriate. You may find previously issued refuge-specific regulations for hunting and fishing in 50 CFR part 32.

Statutory Authority

The National Wildlife Refuge System Administration Act (Administration Act) of 1966 (16 U.S.C. 668dd-668ee, as amended) and the Refuge Recreation Act (Recreation Act) of 1962 (16 U.S.C. 460k-460k-4) govern the administration and public use of national wildlife refuges.

Amendments enacted by the National Wildlife Refuge System Improvement Act of 1997 (Improvement Act) build upon the Administration Act in a manner that provides an “Organic Act” for the System similar to those that exist for other public Federal lands. The Improvement Act serves to ensure that we effectively manage the System as a national network of lands, waters, and interests for the protection and conservation of our Nation's wildlife resources. The Administration Act states first and foremost that we focus the mission of the System on conservation of fish, wildlife, and plant resources and their habitats. The Improvement Act requires the Secretary, before allowing a new use of a refuge, or before expanding, renewing, or extending an existing use of a refuge, to determine that the use is compatible. The Improvement Act established as the policy of the United States that wildlife-dependent recreation, when compatible, is a legitimate and appropriate public use of the System, through which the American public can develop an appreciation for fish and wildlife. The Act established six wildlife-dependent recreational uses, when compatible, as the priority general public uses of the System. These uses are: hunting, fishing, wildlife observation and photography, and environmental education and interpretation.

The Recreation Act authorizes the Secretary to administer areas within the System for public recreation as an appropriate incidental or secondary use only to the extent that doing so is practicable and not inconsistent with the primary purpose(s) for which Congress and the Service established the areas. The Recreation Act requires that any recreational use of refuge lands be compatible with the primary purpose(s) for which we established the refuge and not inconsistent with other previously authorized operations.

The Administration Act and Recreation Act also authorize the Secretary to issue regulations to carry out the purposes of the Acts and regulate uses.

We develop specific management plans for each refuge prior to opening it to hunting or fishing. In many cases, we develop refuge-specific regulations to ensure the compatibility of the programs with the purpose(s) for which we established the refuge and the mission of the System. We ensure initial compliance with the Administration Act and the Recreation Act for hunting and sport fishing on newly acquired refuges through an interim determination of compatibility made at or near the time of acquisition. These regulations ensure that we make the determinations required by these acts prior to adding refuges to the lists of areas open to hunting and fishing in 50 CFR part 32. We ensure continued compliance by the development of comprehensive conservation plans, specific plans, and by annual review of hunting and sport fishing programs and regulations.

New Hunting and Fishing Programs

In preparation for opening additional refuges to hunting and fishing, or to initiating new hunting or fishing programs on refuges already open, we document appropriate compliance with the National Environmental Policy Act (NEPA) through an Environmental Assessment with a finding of No Significant Impact, an Environmental Impact Statement with a Record of Decision, or determine and document that the action qualifies for a Categorical Exclusion. We also conduct and document internal consultations under section 7 of the Endangered Species Act, and coordinate with the State(s), and if appropriate, Tribe(s) in or near the refuge.

Upon review of these documents, we have determined that the opening of these National Wildlife Refuges to hunting and/or fishing is compatible with the purpose of the refuge and the mission of the system, and not inconsistent with applicable State laws. A copy of the compatibility determinations for each respective refuge is available upon request from the Regional Office noted under the heading “Available Information for Specific Refuges.”

We propose to allow the following wildlife-dependent recreational activities:

Refuge | State | Migratory bird hunting | Upland game hunting | Big game hunting | Sport fishing
Wapanocca | Arkansas | X |  | X |
Grand Cote | Louisiana | X | X | X |
Northern Tallgrass Prairie | Minnesota/Iowa | X | X | X |
Boyer Chute | Nebraska | X |  | X |
DeSoto | Iowa |  | X |  |
Big Branch Marsh | Louisiana |  | X |  |
North Platte | Nebraska |  | X | X |
Coldwater | Mississippi |  |  |  | X
Bandon Marsh | Oregon |  |  |  | X
Rappahannock River Valley | Virginia |  |  |  | X

Lands acquired as “waterfowl production areas,” which we generally manage as part of Wetland Management Districts, are open to the hunting of migratory game birds, upland game, big game, and sport fishing subject to the provisions of State law and regulations (see 50 CFR 32.1 and 32.4). This year we are adding Detroit Lakes Wetland Management District in Minnesota to the list of refuges open for all four of these activities.

We are correcting an administrative error in 50 CFR part 32 that occurred with regard to Bandon Marsh National Wildlife Refuge in Oregon. It has come to our attention that the CFR does not indicate that the refuge is open to sport fishing. We opened the refuge to sport fishing in 1986 (55 FR 30655, 30663; August 28, 1986). It appears that a clerical error was made when the rules adopted in 1986 were being published in the subsequent edition of the CFR. We are correcting that error and part 32 will now reflect that the refuge is open to sport fishing. Coldwater National Wildlife Refuge was part of Tallahatchie National Wildlife Refuge (both in Mississippi) and is an area of the System that we opened by reason of its having been included in Tallahatchie's fishing plan (61 FR 45364, August 29, 1996). It has become a separate unit this year, thus we are including a separate listing that Coldwater National Wildlife Refuge is open to fishing only.

If finalized as proposed, the 2003-2004 hunting and fishing season will result in a net of three national wildlife refuges added to fishing and four national wildlife refuges added to hunting. This will bring our cumulative total of national wildlife refuges open to hunting to 315 and refuges open to fishing to 274.

Request for Comments

You may comment on this proposed rule by any one of several methods:

1. You may mail comments to: Chief, Division of Conservation Planning and Policy, National Wildlife Refuge System, U.S. Fish and Wildlife Service, 4401 N. Fairfax Drive, Room 670, Arlington, VA 22203.

2. You may comment via the Internet to: refugesystempolicycomments@fws.gov. Please submit Internet comments as an ASCII file, avoiding the use of special characters and any form of encryption. Please also include: “Attn: 1018-AI63” and your full name and return mailing address in your Internet message. If you only use your e-mail address, we will consider your comment to be anonymous and will not consider it in the final rule. If you do not receive a confirmation from the system that we have received your Internet message, contact us directly at (703) 358-2036.

3. You may fax comments to: Chief, Division of Conservation Planning and Policy, National Wildlife Refuge System, at (703) 358-2248.

4. Finally, you may hand-deliver or courier comments to the address mentioned above. In light of increased security measures, please call (703) 358-2036 before hand-delivering comments.

We seek comments on this proposed rule and will accept comments by any of the methods described above. Our practice is to make comments, including the names and home addresses of respondents, available for public review during regular business hours. Individual respondents may request that we withhold their home addresses from the rulemaking record, which we will honor to the extent allowable by law. In some circumstances, we would withhold from the rulemaking record a respondent's identity, as allowable by law. If you wish for us to withhold your name and/or address, you must state this request prominently at the beginning of your comment. However, we will not consider anonymous comments. We will make all submissions from organizations or businesses and from individuals identifying themselves as representatives or officials of organizations or businesses available for public inspection in their entirety.

Department of the Interior policy is, whenever practicable, to afford the public a meaningful opportunity to participate in the rulemaking process. We considered providing a 60-day, rather than a 30-day, comment period. However, we determined that an additional 30-day delay in processing these refuge-specific hunting and fishing regulations would hinder the effective planning and administration of our hunting and fishing programs. That delay would jeopardize establishment of hunting and fishing programs this year, or shorten their duration. Many of these rules also relieve restrictions and allow the public to participate in recreational activities on a number of refuges. In addition, in order to continue to provide for previously authorized hunting opportunities while at the same time providing for adequate resource protection, we must be timely in providing modifications to certain hunting programs on some refuges.

When finalized, we will incorporate this regulation into 50 CFR part 32. Part 32 contains general provisions and refuge-specific regulations for hunting and sport fishing on national wildlife refuges.

Clarity of This Regulation

Executive Order 12866 requires each agency to write regulations that are easy to understand. We invite your comments on how to make this rule easier to understand, including answers to questions such as the following: (1) Are the requirements in the rule clearly stated? (2) Does the rule contain technical language or jargon that interferes with its clarity? (3) Does the format of the rule (grouping and order of sections, use of headings, paragraphing, etc.) aid or reduce its clarity? (4) Would the rule be easier to understand if it were divided into more (but shorter) sections? (5) Is the description of the rule in the “Supplementary Information” section of the preamble helpful in understanding the rule? (6) What else could we do to make the rule easier to understand? Send a copy of any comments on how we could make this proposed rule easier to understand to: Office of Regulatory Affairs, Department of the Interior, Room 7229, 1849 C Street, NW., Washington, DC 20240. You may e-mail your comments to: Execsec@ios.doi.gov.

Regulatory Planning and Review

In accordance with the criteria in Executive Order 12866, the Service asserts that this rule is not a significant regulatory action. The Office of Management and Budget (OMB) makes the final determination under Executive Order 12866.

a. This rule will not have an annual economic effect of $100 million or adversely affect an economic sector, productivity, jobs, the environment, or other units of the government. A cost-benefit and full economic analysis is not required. The purpose of this rule is to add seven refuges to the list of refuges that have hunting and/or fishing activities and to increase the type of activities at three other refuges. The refuges are located in the States of Arkansas, Iowa, Louisiana, Minnesota, Mississippi, Nebraska, Oregon, and Virginia. Fishing and hunting are two of the wildlife-dependent uses of national wildlife refuges that Congress recognized as legitimate and appropriate and directed us to facilitate, subject to such restrictions or regulations as may be necessary to ensure their compatibility with the purpose(s) and mission of each refuge. Many of the 542 existing national wildlife refuges already have programs where we allow fishing and hunting. Not all refuges have the necessary resources and landscape that would make fishing and hunting opportunities available to the public. By opening these refuges to new activities, we have determined that we can make quality experiences available to the public. This rule establishes hunting and/or fishing programs at the following refuges: Wapanocca National Wildlife Refuge in Arkansas, Grand Cote National Wildlife Refuge in Louisiana, Northern Tallgrass Prairie National Wildlife Refuge in Minnesota and Iowa, Boyer Chute and North Platte National Wildlife Refuges in Nebraska, DeSoto National Wildlife Refuge in Iowa, Big Branch Marsh National Wildlife Refuge in Louisiana, Coldwater National Wildlife Refuge in Mississippi, Bandon Marsh National Wildlife Refuge in Oregon, and Rappahannock River Valley National Wildlife Refuge in Virginia. We present impacts in 2002 real dollars.

For this analysis, we do not expect changes to recreational visits at the Detroit Lakes Wetland Management District, Bandon Marsh National Wildlife Refuge, or Coldwater National Wildlife Refuge. All Wetland Management Districts are open to hunting and fishing activities until closed, and the proposed rulemaking reflects that Detroit Lakes Wetland Management District is open to hunting of migratory game birds, upland game, big game, and sport fishing. However, we do not expect any change in visitation rates at this management district because recreationists currently have the option to participate in these activities at Detroit Lakes. We expect no visitation changes at Bandon Marsh National Wildlife Refuge. The proposed rule corrects an administrative error, but does not change current activities at the refuge since the refuge has been open to fishing since 1986. Also, we expect no visitation changes at Coldwater National Wildlife Refuge. Coldwater was part of Tallahatchie National Wildlife Refuge (also in the State of Mississippi) and covered by its fishing plan. Therefore, we would expect any previous fishing activity in the Coldwater section of Tallahatchie to continue without change.

Following a best-case scenario, if the refuges establishing new fishing and hunting programs were a pure addition to the current supply of such activities, it would mean a consumer surplus of approximately $200,000 annually and an estimated increase of 1,000 user days of hunting and 2,082 user days of fishing (Table 1). Consequently, this rule will have a small, measurable, beneficial economic impact on the U.S. economy.

Table 1.—Estimated Changes in Consumer Surplus From Additional Fishing and Hunting Opportunities in 2003
Refuge | Current visitation days (FY02) | Additional fishing days | Additional hunting days | Additional fishing and hunting combined
Wapanocca | 844 |  | 70 | 70
Grand Cote | 2,500 |  | 1,000 | 1,000
Northern Tallgrass Prairie |  |  | 300 | 300
Boyer Chute | 3,147 |  | 175 | 175
DeSoto | 14,967 |  | 25 | 25
Big Branch Marsh | 5,975 |  | 500 | 500
North Platte |  |  | 12 | 12
Bandon Marsh | 100 |  |  | 0
Coldwater |  |  |  | 0
Rappahannock River | 45 | 1,000 |  | 1,000
Total Days per Year | 27,578 | 1,000 | 2,082 | 3,082
Consumer Surplus per Day |  | $62.16 | $66.02 |
Change in Total Consumer Surplus |  | $62,160 | $137,454 | $199,614
Note: All estimates are stated in 2002 real dollars.

b. This proposed rule will not create inconsistencies with other agencies' actions. This action pertains solely to the management of the System. The fishing and hunting activities located on national wildlife refuges account for approximately 1 percent of the available supply in the United States. Any small, incremental change in the supply of fishing and hunting opportunities will not measurably impact any other agency's existing programs.

c. This proposed rule will not materially affect entitlements, grants, user fees, loan programs, or the rights and obligations of their recipients. This proposed rule does not affect entitlement programs. There are no grants or other Federal assistance programs associated with public use of national wildlife refuges.

d. This proposed rule will not raise novel legal or policy issues. This proposed rule opens seven additional refuges for fishing and hunting activities and increases the activities available at three other refuges. This proposed rule continues the practice of allowing recreational public use of national wildlife refuges. Many refuges in the System currently have opportunities for the public to hunt and fish on refuge lands.

Regulatory Flexibility Act

We certify that this rule will not have a significant economic effect on a substantial number of small entities as defined under the Regulatory Flexibility Act (5 U.S.C. 601 et seq.). A Regulatory Flexibility Analysis is not required. Accordingly, a Small Entity Compliance Guide is not required.

This proposed rule does not increase the number of recreation types allowed in the System but establishes new or additional hunting and/or fishing programs on 10 refuges. As a result, opportunities for wildlife-dependent recreation on national wildlife refuges will increase. The changes in the amount of permitted use are likely to increase visitor activity on these national wildlife refuges.

For purposes of analysis, we will assume that any increase in refuge visitation is a pure addition to the supply of the available activity. This will result in a best-case scenario, and we expect to overstate the benefits to local businesses. The latest information on the distances traveled for fishing and hunting activities indicates that more than 80 percent of the participants travel less than 100 miles from home to engage in the activity. This indicates that participants will spend travel-related expenditures in their local economies. Since participation is scattered across the country, many small businesses benefit. The 2001 National Survey of Fishing, Hunting, and Wildlife Associated Recreation identifies expenditures for food and lodging, transportation, and other incidental expenses. Using the average expenditures for these categories with the expected maximum additional participation on the System as a result of this proposed rule yields the following estimates (Table 2) compared to total business activity for these sectors.

Table 2.—Estimation of the Additional Expenditures With an Increase of Activities in Three Refuges and the Opening of Seven Refuges to Fishing and/or Hunting for 2003-2004
| U.S. total expenditures in 2001 | Average expend. per day | Current refuge expenditures w/o duplication (FY2002) | Possible additional refuge expenditures
Anglers
Total Days Spent | 557 Mil |  | 5.9 Mil | 1,000
Total Expenditures | $36.2 Bil | $65 | $386.3 Mil | $64,937
Trip Related | $14.9 Bil | 27 | $158.9 Mil | $26,710
Food and Lodging | $6.0 Bil | 11 | $63.8 Mil | $10,718
Transportation | $3.6 Bil | 6 | $38.1 Mil | $6,407
Other | $5.3 Bil | 10 | $57.0 Mil | $9,585
Hunters
Total Days Spent | 228 Mil |  | 2.0 Mil | 2,082
Total Expenditures | $20.6 Bil | $92 | $181.0 Mil | $190,878
Trip Related | $5.3 Bil | $23 | $46.1 Mil | $48,642
Food and Lodging | $2.4 Bil | $11 | $21.5 Mil | $22,689
Transportation | $1.8 Bil | $8 | $15.7 Mil | $16,571
Other | $1.0 Bil | $5 | $8.9 Mil | $9,383
Note: All estimates are in 2002 real dollars.

Using a national impact multiplier for hunting activities (2.73) derived from the report “Economic Importance of Hunting in America” and a national impact multiplier for sportfishing activities (2.79) from the report “Sportfishing in America” for the estimated increase in direct expenditures yields a total economic impact of approximately $257,000 (Southwick Associates, Inc., 2003).

A large percentage of the retail trade establishments in the majority of affected counties qualifies as small businesses. With the small increase in overall spending anticipated from this proposed rule, it is unlikely that a substantial number of small entities will have more than a small benefit from the increased recreationist spending near the affected refuges; none are likely to have any adverse impact.

Table 3.—Comparative Expenditures for Retail Trade Associated With Additional Refuge Visitation for 2003
Refuge/County(ies) | Retail trade in 1997 (2002 dollars in millions) | Estimated maximum addition from new refuge | Addition as a % of total | Total number retail establish. | Establish. with <10 emp.
Wapannocca, Crittenden, AR | $24,260 | 6,440 | 0.00003 | 262 | 171
Grand Cote, Avoyelles, LA | 238 | 92,000 | .039 | 169 | 129
Northern Tallgrass Prairie, Rock, MN | 96 | 27,600 | .029 | 62 | 39
Boyer Chute, Washington, NE | 262 | 16,100 | .006 | 99 | 64
DeSoto:
Washington, NE | 262 | 1,150 | .0004 | 99 | 64
Harrison, IA | 187 | 1,150 | .0006 | 101 | 76
Big Branch Marsh, St. Tammany, LA | 1,694 | 46,000 | .003 | 1068 | 713
North Platte, Scotts Bluff, NE | 439 | 1,104 | .0003 | 312 | 220
Rappahannock River, Northumberland, VA | 5,492 | 65,000 | .001 | 54 | 45

Many small businesses may benefit from some increased wildlife refuge visitation. We expect that the incremental recreational opportunities will be scattered, and so we do not expect that the rule will have a significant economic effect (benefit) on a substantial number of small entities in any region or nationally.

Small Business Regulatory Enforcement Fairness Act

The proposed rule is not a major rule under 5 U.S.C. 804(2), the Small Business Regulatory Enforcement Fairness Act. We anticipate no significant employment or small business effects. This rule:

a. Does not have an annual effect on the economy of $100 million or more. The additional fishing and hunting opportunities at the 10 refuges would generate angler and hunter expenditures with an economic impact estimated at $257,000 per year (2002 dollars). Consequently, the maximum benefit of this rule for businesses, both small and large, would not be sufficient to make this a major rule. The impact would be scattered across the country and would most likely not be significant in any local area.

b. Will not cause a major increase in costs or prices for consumers, individual industries, Federal, State, or local government agencies, or geographic regions. This proposed rule will have only a slight effect on the costs of hunting and fishing opportunities for Americans. Under the assumption that any additional hunting and fishing opportunities would be quality opportunities, we would attract participants to the refuge. If the refuge were closer to the participants' residences, then a reduction in travel costs would occur and benefit the participants. The Service does not have information to quantify this reduction in travel cost but assumes that, since most people travel less than 100 miles to hunt and fish, the reduced travel cost would be small for the additional days of hunting and fishing generated by this proposed rule. We do not expect this proposed rule to affect the supply or demand for fishing and hunting opportunities in the United States and therefore, it should not affect prices for fishing and hunting equipment and supplies, or the retailers that sell equipment.

c. Does not have significant adverse effects on competition, employment, investment, productivity, innovation, or the ability of United States-based enterprises to compete with foreign-based enterprises. Refuges that establish hunting and fishing programs may hire additional staff from the local community to assist with the programs, but this would not be a significant increase, because only seven refuges are adding new programs and only three refuges are increasing programs by this proposed rule.

Unfunded Mandates Reform Act

Since this rule applies to public use of federally owned and managed refuges, it does not impose an unfunded mandate on State, local, or Tribal governments or the private sector of more than $100 million per year. The rule does not have a significant or unique effect on State, local, or Tribal governments or the private sector. A statement containing the information required by the Unfunded Mandates Reform Act (2 U.S.C. 1531 et seq.) is not required.

Takings (Executive Order 12630)

In accordance with Executive Order 12630, the rule does not have significant takings implications. This regulation will affect only visitors at national wildlife refuges and describe what they can do while they are on a refuge.

Federalism (Executive Order 13132)

As discussed in the Regulatory Planning and Review and Unfunded Mandates Reform Act sections above, this rule does not have sufficient Federalism implications to warrant the preparation of a Federalism Assessment under Executive Order 13132. In preparing this proposed rule, we worked with State governments, and our programs are consistent to the State regulations to the degree practicable.

Civil Justice Reform (Executive Order 12988)

In accordance with Executive Order 12988, the Office of the Solicitor has determined that the rule does not unduly burden the judicial system and that it meets the requirements of sections 3(a) and 3(b)(2) of the Order. The regulation will clarify established regulations and result in better understanding of the regulations by refuge visitors.

Energy Supply, Distribution or Use (Executive Order 13211)

On May 18, 2001, the President issued Executive Order 13211 on regulations that significantly affect energy supply, distribution, and use. Executive Order 13211 requires agencies to prepare Statements of Energy Effects when undertaking certain actions. Because this rule opens seven refuges to hunting and/or sport fishing programs and increases activities at three others, it is not a significant regulatory action under Executive Order 12866 and is not expected to significantly affect energy supplies, distribution, and use. Therefore, this action is a not a significant energy action and no Statement of Energy Effects is required.

Consultation and Coordination With Indian Tribal Governments (Executive Order 13175)

In accordance with Executive Order 13175, we have evaluated possible effects on federally recognized Indian tribes and have determined that there are no effects. We coordinate recreational use on national wildlife refuges with Tribal governments having adjoining or overlapping jurisdiction before we propose the regulations. This regulation is consistent with and not less restrictive than Tribal reservation rules.

Paperwork Reduction Act

This regulation does not contain any information collection requirements other than those already approved by the OMB under the Paperwork Reduction Act (44 U.S.C. 3501 et seq.) (OMB Control Number is 1018-0102). See 50 CFR 25.23 for information concerning that approval. An agency may not conduct or sponsor and a person is not required to respond to a collection of information unless it displays a currently valid OMB control number.

Endangered Species Act Section 7 Consultation

We reviewed the changes in hunting and fishing regulations herein with regard to Section 7 of the Endangered Species Act of 1973 (16 U.S.C. 1531-1544, as amended) (ESA). For the national wildlife refuges proposed to open for hunting and/or fishing we have determined that DeSoto National Wildlife Refuge, Wapanocca National Wildlife Refuge, Northern Tallgrass Prairie National Wildlife Refuge, and Grand Cote National Wildlife Refuge (for Louisiana black bear) will not likely adversely affect any endangered or threatened species or designated critical habitat, and Grand Cote National Wildlife Refuge (for bald eagle), North Platte National Wildlife Refuge, Big Branch Marsh National Wildlife Refuge, Rappahannock River Valley National Wildlife Refuge, and Boyer Chute National Wildlife Refuge will not affect any endangered or threatened species or designated critical habitat.

We also comply with Section 7 of the ESA when developing CCPs and step-down management plans for public use of refuges, and prior to implementing any new or revised public recreation program on a refuge as identified in 50 CFR 26.32. We also make determinations when required by the ESA before the addition of a refuge to the lists of areas open to hunting or fishing as contained in 50 CFR 32.7.

National Environmental Policy Act

We analyzed this rule in accordance with the criteria of the National Environmental Policy Act of 1969 (42 U.S.C. 4332(C)) and 516 DM 6, Appendix 1. This rule does not constitute a major Federal action significantly affecting the quality of the human environment. An environmental impact statement/assessment is not required.

A categorical exclusion from NEPA documentation applies to this amendment of refuge-specific hunting and fishing regulations since it is technical and procedural in nature and we otherwise comply with NEPA at the specific refuge units.

Prior to the addition of a refuge to the list of areas open to hunting and fishing in 50 CFR part 32, we develop specific management plans for the affected refuges. We incorporate these proposed refuge hunting and fishing activities in refuge CCPs and/or other step-down management plans, pursuant to our refuge planning guidance in 602 FW 1, 3, and 4. We prepare CCPs and step-down plans in compliance with section 102(2)(C) of NEPA, and the Council on Environmental Quality's regulations for implementing NEPA in 40 CFR parts 1500-1508. We invite the affected public to participate in the review, development, and implementation of these plans.

Available Information for Specific Refuges

Individual refuge headquarters retain information regarding public use programs and the conditions that apply to their specific programs and maps of their respective areas. You may also obtain information from the Regional Offices at the addresses listed below:

Region 1—California, Hawaii, Idaho, Nevada, Oregon, and Washington. Regional Chief, National Wildlife Refuge System, U.S. Fish and Wildlife Service, Eastside Federal Complex, 911 N.E. 11th Avenue, Portland, Oregon 97232-4181; Telephone (503) 231-6214.

Region 2—Arizona, New Mexico, Oklahoma, and Texas. Regional Chief, National Wildlife Refuge System, U.S. Fish and Wildlife Service, P.O. Box 1306, 500 Gold Avenue, Albuquerque, New Mexico 87103; Telephone (505) 248-6804.

Region 3—Illinois, Indiana, Iowa, Michigan, Minnesota, Missouri, Ohio, and Wisconsin. Regional Chief, National Wildlife Refuge System, U.S. Fish and Wildlife Service, 1 Federal Drive, Federal Building, Fort Snelling, Minnesota 55111; Telephone (612) 713-5400.

Region 4—Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, Georgia 30345; Telephone (404) 679-7154.

Region 5—Connecticut, Delaware, Maine, Maryland, Massachusetts, New Hampshire, New Jersey, New York, Pennsylvania, Rhode Island, Vermont, Virginia, and West Virginia. Regional Chief, National Wildlife Refuge System, U.S. Fish and Wildlife Service, 300 Westgate Center Drive, Hadley, Massachusetts 01035-9589; Telephone (413) 253-8302.

Region 6—Colorado, Kansas, Montana, Nebraska, North Dakota, South Dakota, Utah, and Wyoming. Regional Chief, National Wildlife Refuge System, U.S. Fish and Wildlife Service, 134 Union Blvd., Lakewood, Colorado 80228; Telephone (303) 236-8145.

Region 7—Alaska. Regional Chief, National Wildlife Refuge System, U.S. Fish and Wildlife Service, 1011 E. Tudor Rd., Anchorage, Alaska 99503; Telephone (907) 786-3354.

Primary Author

Leslie A. Marler, Management Analyst, Division of Conservation Planning and Policy, National Wildlife Refuge System, U.S. Fish and Wildlife Service, Arlington, Virginia 22203, is the primary author of this rulemaking document.

List of Subjects in 50 CFR Part 32

Fishing, Hunting, Reporting and recordkeeping requirements, Wildlife, Wildlife refuges.

For the reasons set forth in the preamble, we propose to amend Title 50, Chapter I, subchapter C of the Code of Federal Regulations as follows:

PART 32—[AMENDED]

1. The authority citation for part 32 continues to read as follows:

Authority: 5 U.S.C. 301; 16 U.S.C. 460k, 664, 668dd-668ee, and 715i.

2. In § 32.7 “What refuge units are open to hunting and/or fishing?” by:

a. Alphabetically adding Detroit Lakes Wetland Management District in the State of Minnesota;

b. Alphabetically adding Northern Tallgrass Prairie National Wildlife Refuge in the States of Minnesota and Iowa.

d. Alphabetically adding Coldwater National Wildlife Refuge in the State of Mississippi;

3. In § 32.23 Arkansas by adding the text of paragraphs A. and C. of Wapanocca National Wildlife Refuge to read as follows:

§ 32.23 Arkansas.

* * * * *

Wapanocca National Wildlife Refuge

A. Hunting of Migratory Game Birds. We allow hunting of snow geese on designated areas of the refuge in accordance with State regulations subject to the following conditions:

1. We require refuge hunting permits. The permits are nontransferable and anyone on refuge land in possession of hunting equipment must sign and carry them at all times.

2. We provide annual season dates on the hunt brochure/permit.

3. You must sign in prior to the hunt and sign out after the hunt at the Hunter Information Station.

4. You must adhere to all public use special conditions and regulations on the annual hunt brochure/permit.

* * * * *

C. Big Game Hunting. We allow hunting of white-tailed deer on designated areas of the refuge in accordance with State regulations subject to the following conditions:

1. Conditions A1 and A4 apply.

2. We prohibit hunting from or within 50 yards (45 m) of graveled roads and within 150 yards (135 m) of refuge buildings.

3. We allow archery/crossbow hunting for deer. We specify annual season dates and bag limits on the hunting permits.

4. Immediately record the deer zone 640 on the hunter's license and later on official check station records upon harvest of a deer.

5. You must sign in prior to the hunt and sign out after the hunt at the Hunter Information Station. You must check harvested deer at this location.

6. We prohibit dogs.

7. We allow only single-person portable tree stands. You may place tree stands on the refuge 2 days before the hunt but must remove them within 2 days after the hunt. You must permanently affix the owner's name and address on stands left on the refuge.

8. We prohibit possession of or marking trails with materials other than biodegradable paper/flagging or reflective tape/tacks.

9. We prohibit ATVs.

* * * * *

4. In § 32.34 Iowa by:

a. Adding the text of paragraph B. of DeSoto National Wildlife Refuge; and

b. Adding Northern Tallgrass Prairie National Wildlife Refuge to read as follows:

§ 32.34 Iowa.

* * * * *

DeSoto National Wildlife Refuge

* * * * *

B. Upland Game Hunting. We allow hunting of ring-necked pheasant and turkey on designated areas of the refuge in accordance with the States of Iowa and Nebraska regulations subject to the following condition: We require a refuge permit.

* * * * *

Northern Tallgrass Prairie National Wildlife Refuge

Refer to § 32.42 Minnesota for regulations.

* * * * *

5. In § 32.37 Louisiana by:

a. Adding the text of paragraph B. of Big Branch Marsh National Wildlife Refuge; and

b. Adding the text of paragraphs A., B., and C. of Grand Cote National Wildlife Refuge to read as follows:

§ 32.37 Louisiana.

* * * * *

Big Branch Marsh National Wildlife Refuge

* * * * *

B. Upland Game Hunting. We allow hunting of squirrel, rabbit, snipe, woodcock, quail, gallinule, rail, and nutria subject to the following conditions:

1. We allow hunting during the open State season using only approved nontoxic shot size #4 or smaller.

2. You may use dogs for squirrel and rabbit after the close of the State gun deer season only.

3. You may use only recognized breeds of setter/retriever for hunting of snipe, woodcock, and quail.

4. You must possess and carry a valid refuge hunt permit.

5. We prohibit air-thrust boats, motorized pirogues, mud boats, and air-cooled propulsion engines on the refuge.

6. Youth hunters 15 years of age and under must successfully complete a State-approved hunter education course. While hunting, each youth must possess and carry a card or certificate of completion. One adult 21 years of age or older must supervise each youth hunter. For waterfowl and upland game hunts, one adult may supervise two youths.

7. You must unload and encase or dismantle firearms carried in vehicles or boats.

8. We open the refuge during daylight hours only.

9. We prohibit possession of buckshot, slugs, rifles, or rifle ammunition.

10. We prohibit hunting within 200 feet (60 m) of any road (including refuge roads), residence, or designated public facilities.

11. We prohibit possession of lead shot during all refuge hunts.

* * * * *

Grand Cote National Wildlife Refuge

A. Hunting of Migratory Birds. We allow hunting of ducks, geese, coots, mourning dove, and woodcock on designated areas of the refuge, as shown on refuge hunting brochure map, subject to the following conditions:

1. We require hunters 16 years of age and older to purchase and carry a signed $12.50 refuge hunt/fish/ATV permit.

2. We allow public access from 5 a.m. to 1 hour after legal sunset.

3. An adult 21 years of age or older must accompany (within sight of and in normal voice contact with) youth hunters 15 years of age and under. We require youth hunters to possess and carry proof of completion of an approved Hunter Safety Course. Each adult can supervise one youth hunter during deer hunts and not more that two youths during all other hunts.

4. We require hunters to enter and exit the refuge from designated parking lots only.

5. We require hunters to checkin/out at a designated check station.

6. We prohibit camping or parking overnight on the refuge.

7. We prohibit discharge of firearms except when hunting.

8. We prohibit marking of trails with nonbiodegradable flagging tape.

9. We allow use of ATVs on designated trails from the third Saturday in September to the last day of the State rabbit season. An ATV is an off-road vehicle with factory specifications not to exceed the following: weight-750 lbs. (337.5 kg), length-85 inches (212.5 cm), and width-48 inches (120 cm). We restrict ATV tires to those no larger than 25 x 12 with a maximum 1 inch (2.5 cm) lug height and a maximum allowable tire pressure of 7 psi as indicated on the tire by the manufacturer.

10. We prohibit horses or mules.

11. We prohibit saws, saw blades, and/or machetes while on the refuge.

12. We prohibit hunting within 100 feet (30 m) of any designated road, ATV or hiking trail, or refuge facility.

13. We prohibit transportation of loaded weapons on an ATV.

14. We prohibit blocking of gates or trails with vehicles or ATVs.

15. We prohibit ATVs on trails/roads not specifically designated by signs for ATV use.

16. We allow only nonmotorized boats.

17. You may take raccoon, feral hog, beaver, nutria, and coyote incidentally to migratory bird hunting, upland game hunting, and big game hunting with weapons legal for that hunt.

18. We allow waterfowl (ducks, geese, coots) hunting on Wednesdays and Saturdays until 12 a.m. (noon) only during the Statewide duck season.

19. We allow use of shotguns during designated hunts only.

20. We prohibit the construction or use of permanent blinds.

21. You must remove all decoys, portable blinds, and boats daily.

22. We have a youth waterfowl hunt in the Crawfish Pond Unit during the Statewide duck season. This will be a quota-type hunt, and hunters will apply on an index or post card with their name, address, phone number, and dates of the hunt for which they are applying. When the State sets the duck season, we will set the dates of the hunt.

23. We allow hunting of mourning doves incidentally by waterfowl hunters only on days open to waterfowl hunting.

24. We allow recognized retriever breeds for migratory game bird hunting.

25. We prohibit frogging.

B. Upland Game Hunting. We allow hunting of rabbit, raccoon, feral hog, beaver, nutria, and coyote on designated areas of the refuge, as shown on refuge hunting brochure map, subject to the following conditions:

1. Conditions A1 through A17 and A25 apply.

2. We allow rabbit hunting from December 1 until the end of the Statewide season.

3. We allow use of shotguns during designated hunts only.

4. We allow recognized breeds of rabbit dogs only after the close of the State deer rifle season.

5. You must use only beagles that do not exceed 15 inches (37.5 cm) at front shoulders for rabbit hunting.

6. We require you to collar all dogs with owner's name and phone number.

C. Big Game Hunting. We allow hunting of white-tailed deer on designated areas of the refuge as shown on refuge hunting brochure map subject to the following conditions:

1. Conditions A1 through A17 and A25 apply.

2. We allow archery-only deer hunting on the refuge from October 1 through October 31 in the Gremillion Unit, Island of the Owls Unit, and Concrete Bridge Unit.

3. You must have hunter's name, address, and phone number permanently attached to all deer stands. We allow only portable deer stands that hunters must take down daily.

4. We prohibit hunters to drive deer or use pursuit dogs.

5. We allow only archery equipment during designated seasons.

6. We require hunters to complete and possess and carry proof of completion of the International Bowhunters' Safety Course.

7. We prohibit use of dogs to trail wounded deer.

8. You may kill one deer of either sex per day during the deer season.

* * * * *

6. In § 32.42 Minnesota by:

a. Adding Detroit Lakes Wetland Management District; and

b. Adding Northern Tallgrass Prairie National Wildlife Refuge to read as follows:

§ 32.42 Minnesota.

* * * * *

Detroit Lakes Wetland Management District

A. Hunting of Migratory Game Birds. We allow hunting of migratory game birds throughout the district in accordance with State regulations, except that we prohibit hunting on the Headquarters Waterfowl Production Area (WPA) in Becker County, the Hitterdal WPA in Clay County, and the McIntosh WPA in Polk County. The following conditions apply:

1. We prohibit the use of motorized boats.

2. You must remove boats, decoys, blinds, and blind materials brought onto WPAs following each day's hunt.

3. We allow the use of hunting dogs, provided the dog is under the immediate control of the hunter at all times.

B. Upland Game Hunting. We allow upland game hunting in accordance with State regulations throughout the district, except that we allow no hunting on the Headquarters Waterfowl Production Area (WPA) in Becker county, the Hitterdal WPA in Clay county, and the McIntosh WPA in Polk county. The following condition applies: We allow the use of hunting dogs, provided the dog is under the immediate control of the hunter at all times.

C. Big Game Hunting. We allow big game hunting in accordance with State regulations throughout the district, except that we allow no hunting on the Headquarters Waterfowl Production Area (WPA) in Becker county, the Hitterdal WPA in Clay county, and the McIntosh WPA in Polk county. The following conditions apply:

1. We prohibit the construction or use of permanent blinds, platforms, or ladders.

2. You must remove all portable hunting stands from the area at the end of each day's hunt.

D. Sport Fishing. We allow fishing in accordance with State regulations throughout the district subject to the following condition: We prohibit the use of motorized boats.

* * * * *

Northern Tallgrass Prairie National Wildlife Refuge

A. Hunting of Migratory Game Birds. We allow hunting of migratory game birds on designated areas in accordance with State regulations subject to the following conditions:

1. You must remove boats, decoys, portable or temporary blinds, materials brought onto the refuge, and other personal property at the end of each day's hunt.

2. We prohibit the construction or use of permanent blinds, stands, or scaffolds.

3. We prohibit the use of motorized watercraft.

B. Upland Game Hunting. We allow hunting of upland game on designated areas in accordance with State regulations subject to the following conditions:

1. Hunters may possess only approved nontoxic shot while in the field.

2. We prohibit the use of dogs for hunting furbearers.

3. Hunters may take weasels, coyotes, gophers, crows, and all other species for which there is no closed season only during a State-designated open season for other upland game species.

C. Big Game Hunting. We allow hunting of big game in accordance with State regulations subject to the following conditions:

1. We prohibit the construction or use of permanent blinds, stands, or scaffolds.

2. You must remove all temporary blinds, stands, and scaffolds at the end of each day's hunt.

3. We prohibit the use of motorized watercraft.

* * * * *

7. In § 32.43 Mississippi by adding Coldwater National Wildlife Refuge to read as follows:

§ 32.43 Mississippi.

* * * * *

Coldwater National Wildlife Refuge

A. Hunting of Migratory Game Birds. [Reserved]

B. Upland Game Hunting. [Reserved]

C. Big Game Hunting. [Reserved]

D. Sport Fishing. We allow fishing on designated areas of the refuge in accordance with State regulations subject to the following conditions:

1. All persons fishing who are 16 years of age and older must carry a State license on the refuge. You must have a signed refuge fishing permit in your possession when fishing on the refuge. You may obtain permits at North Mississippi Refuges Complex Headquarters, 2776 Sunset Drive, Grenada, Mississippi 38901, or at the Dahomey National Wildlife Refuge Office, Box 381, Highway 446, Boyle, Mississippi 38730, or by mail from the above addresses.

2. We close the refuge to fishing from October 1 through February 28.

3. We allow fishing in bar pits along the Corps of Engineers levee only.

4. We prohibit possession of any weapon while fishing on the refuge.

5. We prohibit possession or use of jugs, seines, nets, hand-grab baskets, slat traps/baskets, or any other similar devices and commercial fishing of any kind.

6. We allow trotlines, yo-yos, limb lines, crawfish traps, or any other similar devices for recreational use only, and you must tag or mark them with waterproof ink, legibly inscribed or legibly stamped on the tag with your full name and full residence address, including zip code. You must attend these devices a minimum of once daily. If you are not going to attend these devices, you must remove them from the refuge.

7. We prohibit snagging or attempting to snag fish.

8. We allow crawfishing.

9. We allow taking of frogs by Special Use Permit only.

* * * * *

8. In § 32.45 Nebraska by:

a. Adding the text of paragraph A. and by revising the text of paragraph C. of Boyer Chute National Wildlife Refuge; and

b. Adding the text of paragraphs B. and C. of North Platte National Wildlife Refuge to read as follows:

§ 32.46 Nebraska.

* * * * *

Boyer Chute National Wildlife Refuge

A. Hunting of Migratory Game Birds. We allow hunting of ducks, geese, and coots on designated areas of the refuge subject to the following conditions:

1. You may hunt from 1½ hours before legal sunrise to 1 hour after legal sunset along the immediate shoreline and up to the high bank of the Missouri River. You must access the hunting area by land only within the public use area of the Island Unit and only with shotgun cased and unloaded.

2. You must remove all blinds and decoys at the conclusion of each day's hunt.

3. You must adhere to all applicable State hunting regulations.

* * * * *

C. Big Game Hunting. We allow hunting of white-tailed deer subject to the following condition: We allow a mentored youth hunt on designated areas of the refuge subject to the guidelines set forth and administered by the State.

* * * * *

North Platte National Wildlife Refuge

* * * * *

B. Upland Game Hunting. We allow hunting of squirrel, rabbit, pheasants, State-defined furbearers, and coyote on designated areas of the refuge in accordance with State regulations subject to the following conditions:

1. We close the Lake Alice Unit to all public entry from October 15 through January 14.

2. Youth hunters must be 15 years of age or younger. A licensed hunter 19 years of age or older must accompany youth hunters. We prohibit adults accompanying youth hunters to hunt or carry firearms. The accompanying adult is responsible for ensuring that the hunter does not engage in conduct that would constitute a violation of refuge or State regulations.

3. We close the refuge to public use from legal sunset to legal sunrise. However, youth hunters and their adult guides may enter the designated hunting area 1 hour prior to legal sunrise.

4. We only allow dogs engaged in pheasant-hunting activities on the refuge.

C. Big Game Hunting. We allow archery hunting of mule deer and white-tailed deer on designated areas of the refuge in accordance with State regulations subject to the following conditions:

1. We close the Lake Alice Unit to all public entry from October 15 through January 14.

2. We close the refuge to public use from legal sunset to legal sunrise. However, archery deer hunters may enter the designated hunting area 1 hour prior to legal sunrise and remain until 1 hour after legal sunset.

* * * * *

9. In § 32.56 Oregon by adding the text of paragraph D. of Bandon Marsh National Wildlife Refuge to read as follows:

§ 32.56 Oregon.

* * * * *

Bandon Marsh National Wildlife Refuge

* * * * *

D. Sport Fishing. We allow sport fishing in accordance with State regulations, on that portion of the refuge west of U.S. Highway 101.

* * * * *

10. In § 32.66 Virginia by adding the text of paragraph D. of Rappahannock River Valley National Wildlife Refuge to read as follows:

§ 32.66 Virginia.

* * * * *

Rappahannock River Valley National Wildlife Refuge

* * * * *

D. Sport Fishing. We allow fishing on designated areas of Wilna Pond in Richmond County subject to the following conditions:

1. As we implement the new fishing program at Wilna Pond, we intend to be open on a daily basis, legal sunrise to legal sunset. If unexpected law enforcement issues arise, we may restrict hours of access for fishing.

2. From March 15 through June 30, we allow fishing from the Wilna Pond pier only (no boat or bank fishing).

3. During the period when we open the Wilna Tract for deer hunting, we will close it to all other uses, including fishing.

4. We prohibit fishing by any means other than by use of one or more attended poles with hook and line attached.

5. We prohibit the use of lead fishing tackle.

6. We require catch and release fishing only for largemouth bass. Anglers may take other finfish species in accordance with State regulations.

7. We prohibit the take of any reptile, amphibian, or invertebrate species for use as bait or for any other purpose.

8. We prohibit the use of live minnows as bait.

9. We prohibit use of boats propelled by gasoline motors, sail, or mechanically operated paddle wheel. We only permit car-top boats; and we prohibit trailers.

10. Prescheduled environmental education field trips will have priority over other uses, including sport fishing, on the Wilna Pond pier at all times.

* * * * *

Dated: August 5, 2003.
Craig Manson,
Assistant Secretary for Fish and Wildlife and Parks.

[FR Doc. 03-20448 Filed 8-13-03; 8:45 am]

BILLING CODE 4310-55-P